DEPARTMENT OF JUSTICE

Bureau of Alcohol, Tobacco, Firearms and Explosives

[Docket No. ATF 16N; ATF O 1156.2]

Delegation Order—Authority to Issue Space Requests to General Services Administration (GSA)

1. Purpose. This order delegates authority for issuing requests for space on StandardForm 81, Request for Space.

2. Cancellation. This order cancels ATF O 1100.140B, Delegation Order—Authority To Issue Space Requests to GSA, dated 8/31/1991.

3. Delegations.

a. Under the authority vested in the Director, Bureau of Alcohol, Tobacco, Firearms and Explosives, by Department of Justice Final Rule [AG Order No. 2650-2003] as published in the Federal Register on January 31, 2003, and by title 28 CFR 0.130 and 0.131, I hereby delegate the authority for issuing requests for space, in accordance with GSA regulations to:

(1) Assistant Director (Management)/CFO.

(2) Chief, Administrative Programs Division.

(3) Chief, Space Management Branch.

b. The authority delegated herein may not be redelegated.

4. Questions. Questions regarding this order should be addressed to the Chief, Space Management Branch at (202) 927-8840.

Dated: December 21, 2004.
Carl J. Truscott,
Director.

[FR Doc. 05-518 Filed 1-10-05; 8:45 am]

BILLING CODE 4410-FY-P